DEPARTMENT OF COMMERCE

International Trade Administration

[A-549-848]

Truck and Bus Tires From Thailand: Antidumping Duty Order

AGENCY: Enforcement and Compliance, International Trade Administration, Department of Commerce.

SUMMARY: Based on the affirmative final determinations by the U.S. Department of Commerce (Commerce) and the U.S. International Trade Commission (ITC), Commerce is issuing an antidumping duty order on truck and bus tires from Thailand.

DATES: Applicable December 17, 2024.

FOR FURTHER INFORMATION CONTACT: Faris Montgomery or Jonathan Schueler, AD/CVD Operations, Office VIII, Enforcement and Compliance, International Trade Administration, U.S. Department of Commerce, 1401 Constitution Avenue NW, Washington, DC 20230; telephone: (202) 482-1537 or (202) 482-9175, respectively.

SUPPLEMENTARY INFORMATION:

Background

In accordance with sections 735(d) and 777(i) of the Tariff Act of 1930, as amended (the Act), on October 17, 2024, Commerce published in the Federal Register its affirmative final determination of sales at less-than-fair-value (LTFV) in the investigation of truck and bus tires from Thailand.¹ As part of its determination, Commerce made an affirmative crticial cirumstances finding for Bridgestone Corporation in the LTFV investigation. Pursuant to section 735(d) of the Act, on December 2, 2024, the ITC notified Commerce of its affirmative final determination that an industry in the United States is materially injured, within the meaning of section 735(b)(1)(A)(i) of the Act, by reason of imports of truck and bus tires from Thailand that are sold in the United States at LTFV.² On December 6, 2024, in accordance with section 735(d) of the Act, the ITC published in the Federal Register its affirmative final injury determination in this investigation in which it found that an industry in the United States is materially injured by reason of imports of truck and bus tires from Thailand.³ In addition, the ITC found that critical circumstances do not exist with regard to imports of truck and bus tires from Thailand.⁴

¹ See Truck and Bus Tires from Thailand: Final Affirmative Determination of Sales at Less Than Fair Value and Final Affirmative Determination of Critical Circumstances, in Part, 89 FR 83636 (October 17, 2024) (Final Determination), and accompanying Issues and Decision Memorandum.

² See ITC's Letter, “Notification of ITC Final Determination,” dated December 2, 2024.

³ See Truck and Bus Tires from Thailand, 89 FR 97069 (December 6, 2024) (ITC Final Determination).

⁴ Id.

Scope of the Order

The products covered by this order are truck and bus tires from Thailand. For a complete description of the scope of this order, see the appendix to this notice.

Antidumping Duty Order

Based on the above-referenced affirmative final determinations, in accordance with sections 735(c)(2) and 736 of the Act, Commerce is issuing this antidumping duty order. Moreover, because the ITC determined that U.S. imports of truck and bus tires from Thailand are materially injuring a U.S. industry, unliquidated entries of such merchandise from Thailand, entered or withdrawn from warehouse for consumption, as described below, are subject to the assessment of antidumping duties.

Therefore, in accordance with section 736(a)(1) of the Act, Commerce will direct U.S. Customs and Border Protection (CBP) to assess, upon further instruction by Commerce, antidumping duties equal to the amount by which the normal value of the merchandise exceeds the export price or constructed export price of the merchandise, for all relevant entries of truck and bus tires from Thailand. With the exception of entries occurring after expiration of the provisional measures period, but before publication of the ITC's final affirmative injury determination, as further described below, antidumping duties will be assessed on unliquidated U.S. entries of truck and bus tires from Thailand entered, or withdrawn from warehouse, for consumption on or after the date on which the suspension of liquidation was first ordered. As discussed in the Final Determination, with respect to Prinx Chengshan Tire (Thailand) Co., Ltd. (Prinx) this date is October 17, 2024, the date of publication of the Final Determination in the Federal Register.⁵ With respect to Bridgestone Corporation and all other companies, this date is May 20, 2024, the date of publication of the Preliminary Determination in the Federal Register.⁶

⁵ See Final Determination, 89 FR at 83638.

⁶ Id.; see also Truck and Bus Tires from Thailand: Preliminary Affirmative Determination of Sales at Less Than Fair Value, Preliminary Negative Determination of Critical Circumstances, and Postponement of Final Determination, 89 FR 43806 (May 20, 2024) (Preliminary Determination).

Critical Circumstances

With respect to the ITC's negative critical circumstances determination on imports of truck and bus tires from Thailand, we will instruct CBP to lift the suspension of liquidation and to refund all cash deposits for estimated antidumping duties with respect to entries of the subject merchandise entered, or withdrawn from warehouse, for consumption on or after February 20, 2024, which is 90 days prior to the publication of the Preliminary Determination, but before May 20, 2024, which is the date of publication of the Preliminary Determination.⁷

⁷ See Preliminary Determination.

Continuation of Suspension of Liquidation and Cash Deposits

Except as noted in the “Provisional Measures” section of this notice below, in accordance with section 736 of the Act, Commerce will instruct CBP to continue to suspend liquidation of all relevant entries of truck and bus tires from Thailand. These instructions suspending liquidation will remain in effect until further notice.

Commerce will also instruct CBP to require cash deposits at a rate equal to the estimated weighted-average dumping margins listed in the table below. Accordingly, effective on the date of publication in the Federal Register of the notice of the ITC's affirmative final injury determination, CBP will suspend the entries of liquidation of entries of subject merchandise and require, at the same time as importers would normally deposit estimated duties on subject merchandise, a cash deposit equal to the weighted-average dumping margins listed in the table below. The all-others rate applies to all producers or exporters not specifically listed, as appropriate.

Estimated Weighted-Average Dumping Margins

The estimated weighted-average dumping margins for this antidumping duty order are as follows:

Producer or exporter | Weighted- average dumping margin (percent)
Bridgestone Corporation | 48.39
Prinx Chengshan Tire (Thailand) Co., Ltd | 12.33
All Others | 12.33

Provisional Measures

Section 733(d) of the Act states that suspension of liquidation pursuant to an affirmative preliminary determination may not remain in effect for more than four months, except where exporters representing a significant proportion of exports of the subject merchandise request that Commerce extend the four-month period to no more than six months. Commerce published the Preliminary Determination in this investigation on May 20, 2024. Commerce extended the deadline for issuing its final determination in this investigation, which it published in the Federal Register on October 17, 2024. Therefore, the six-month provisional measures period beginning on the date of publication of the Preliminary Determination for Bridgestone and all other companies ended on November 15, 2024. As noted above, suspension of liquidation for Prinx was not ordered until October 17, 2024, the date of publication of the Final Determination in the Federal Register; ⁸ therefore, the six-month provisional measures period for Prinx has not yet ended.

⁸ See Final Determination, 89 FR at 83638.

Consequently, in accordance with section 733(d) of the Act, Commerce will instruct CBP to terminate the suspension of liquidation, and to liquidate, without regard to antidumping duties, unliquidated U.S. entries of truck and bus tires from Thailand entered, or withdrawn from warehouse, for consumption on or after November 16, 2024, the first day on which the provisional measures were no longer in effect for Bridgestone and all other companies, through the day preceding the date of publication of the ITC Final Determination in the Federal Register. Suspension of liquidation and the collection of cash deposits will resume on the date of publication of the ITC Final Determination in the Federal Register.

Establishment of the Annual Inquiry Service Lists

On September 20, 2021, Commerce published the final rule titled Regulations to Improve Administration and Enforcement of Antidumping and Countervailing Duty Laws in the Federal Register.⁹ On September 27, 2021, Commerce published a notification titled Scope Ruling Application; Annual Inquiry Service List; and Informational Sessions in the Federal Register.¹⁰ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹¹

⁹ See Regulations to Improve Administration and Enforcement of Antidumping and Countervailing Duty Laws, 86 FR 52300 (September 20, 2021) (Final Rule).

¹⁰ See Scope Ruling Application; Annual Inquiry Service List; and Informational Sessions, 86 FR 53205 (September 27, 2021) (Procedural Guidance).

¹¹ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be maintained in ACCESS, under each case number, and under a specific segment type called “AISL-Annual Inquiry Service List.” ¹²

¹² This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance in the annual inquiry service list segment in ACCESS for the order within 30 days after the date of publication of the order in the Federal Register. For ease of administration, Commerce requests that a law firm with more than one attorney representing an interested party in an order designate a lead attorney to be included on the annual inquiry service list. Commerce will finalize the annual inquiry service list within five business days thereafter. As mentioned in the Procedural Guidance, the new annual inquiry service list will be in place until the following year, when the Opportunity Notice for the anniversary month of the order is published in the Federal Register.

Commerce may update an annual inquiry service list at any time, as needed, based on interested parties' amendments to their entries of appearance to remove, or otherwise modify, their list of members and representatives, or to update contact information. Changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹³ Accordingly, as stated above, the petitioners and foreign governments should submit their initial entry of appearance after publication of this notice in the Federal Register in order to appear in the first annual inquiry service list. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹³ See Final Rule, 86 FR 52335.

Notification to Interested Parties

This notice constitutes the antidumping duty order with respect to truck and bus tires from Thailand, pursuant to section 736(a) of the Act. Interested parties can find a list of antidumping duty orders currently in effect at https://www.trade.gov/data-visualization/adcvd-proceedings.

This antidumping duty order is issued and published in accordance with section 736(a) of the Act and 19 CFR 351.211(b).

Dated: December 11, 2024.
Abdelali Elouaradia,
Deputy Assistant Secretary for Enforcement and Compliance.

Appendix

Scope of the Order

The scope of the order covers truck and bus tires. Truck and bus tires are new pneumatic tires, of rubber, with a truck or bus size designation. Truck and bus tires covered by the scope may be tube-type, tubeless, radial, or non-radial (also known as bias construction or bias-ply). Subject tires have, at the time of importation, the symbol “DOT” on the sidewall, certifying that the tire conforms to applicable motor vehicle safety standards. Subject tires may also have one of the following suffixes in their tire size designation, which also appear on the sidewall of the tire:

TR—Identifies tires for service on trucks or buses to differentiate them from similarly sized passenger car and light truck tires; and

HC—Identifies a 17.5 inch rim diameter code for use on low platform trailers.

All tires with a “TR” or “HC” suffix in their size designations are covered by the scope regardless of their intended use.

In addition, all tires that lack one of the above suffix markings are included in the scope, as well as all tires that include any other prefix or suffix in their sidewall markings, are included in the scope, regardless of their intended use, as long as the tire is of a size that fits trucks or busses. Sizes that fit trucks and busses include, but are not limited to, the numerical size designations listed in the “Truck-Bus” section of the Tire and Rim Association Year Book, as updated annually. The scope includes all tires that are of a size that fits trucks or busses, unless the tire falls within one of the specific exclusions set out below.

Truck and bus tires, whether or not mounted on wheels or rims, are included in the scope. However, if a subject tire is imported mounted on a wheel or rim, only the tire is covered by the scope. Subject merchandise includes truck and bus tires produced in the subject country whether mounted on wheels or rims in the subject country or in a third country. Truck and bus tires are covered whether or not they are accompanied by other parts, e.g., a wheel, rim, axle parts, bolts, nuts, etc. Truck and bus tires that enter attached to a vehicle are not covered by the scope.

Specifically excluded from the scope are the following types of tires: (1) pneumatic tires, of rubber, that are not new, including recycled and retreaded tires; (2) non-pneumatic tires, such as solid rubber tires; and (3) tires that exhibit each of the following physical characteristics: (a) the designation “MH” is molded into the tire's sidewall as part of the size designation; (b) the tire incorporates a warning, prominently molded on the sidewall, that the tire is for “Mobile Home Use Only;” and (c) the tire is of bias construction (also known as non-radial construction) as evidenced by the fact that the construction code included in the size designation molded into the tire's sidewall is not the letter “R.”

The subject merchandise is currently classifiable under Harmonized Tariff Schedule of the United States (HTSUS) subheadings: 4011.20.1015 and 4011.20.5020. Tires meeting the scope description may also enter under the following HTSUS subheadings: 4011.90.1010, 4011.90.1050, 4011.90.2010, 4011.90.2050, 4011.90.8010, 4011.90.8050, 8708.70.4530, 8708.70.4546, 8708.70.4548, 8708.70.4560, 8708.70.6030, 8708.70.6045, 8708.70.6060, and 8716.90.5059.

While HTSUS subheadings are provided for convenience and for customs purposes, the written description of the subject merchandise is dispositive.

[FR Doc. 2024-29606 Filed 12-16-24; 8:45 am]

BILLING CODE 3510-DS-P